DEPARTMENT OF THE INTERIOR

National Park Service

National Register of Historic Places; Notification of Pending Nominations and Related Actions

Nominations for the following properties being considered for listing or related actions in the National Register were received by the National Park Service before March 10, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by April 10, 2007.

J. Paul Loether,
Chief National Register of Historic Places/National Historic Landmarks Program.

CALIFORNIA

Los Angeles County

Glassell Park Elementary School, 2211 West Avenue 30, Los Angeles, 07000309

San Mateo County

La Dolphine, 1761 Mannor Dr., Hillsborough, 07000308

Santa Clara County

Hewlett—Packard House and Garage, 367 Addison Ave., Palo Alto, 07000307

Sonoma County

SS POMONA (Shipwreck), Fort Ross Cove, off Fort Ross Historic State Park, Jenner, 07000306

COLORADO

Weld County

Greeley Tribune Building, 714 8th St., Greeley, 07000310

KANSAS

Atchison County

Atchison County Memorial Hall, 819 Commercial St., Atchison, 07000317

Chautauqua County

Adam, L.C., Mercantile Building, 618 Cedar St., Cedar Vale, 07000312

Douglas County

House, Edward, House, 1646 Massachusetts St., Lawrence, 07000316

Osage County

Osage County Courthouse, (County Courthouses of Kansas MPS), 717 Topeka Ave., Lyndon, 07000320

Sedgwick County

Adeline Apartment Building, 1403 N. Emporia, Wichita, 07000314

Belmont Arches, Belmont jct. of Central and Douglas, Wichita, 07000313

Market Street Cottage, 1144 N. Market St., Wichita, 07000315

Shawnee County

College Avenue Historic District, College Ave. bet. Huntoon St. and 17th St., Topeka, 07000321

Sumner County

Smith, H.F., House, 721 W. Harvey Ave., Wellington, 07000318

Wyandotte County

Williamson, Roy, House, 1865 Edwardsville Dr., Edwardsville, 07000311

MISSOURI

Jackson County

Auto Coach Building, 1730-34 Oak St., Kansas City, 07000328

Federal Reserve Bank of Kansas City, 925 Grand Blvd., Kansas City, 07000327

Globe Storage and Transfer Company Building, 1712 Main St., Kansas City, 07000326

Newton County

Neosho Commercial Historic District (Boundary Increase), (Neosho MPS) 114, 116, 118-120, 120 and 124-126 S. Wood St., Neosho, 07000323

St. Louis Independent City Melrose Apartments, 4065 W. Pine Boulevard, St. Louis (Independent City), 07000324

Missouri Athletic Club Building, 405-409 Washington Ave., St. Louis (Independent City), 07000325

St. Mary's Infirmary, 1536-48 Papin St., St. Louis (Independent City), 07000322

NEW YORK

Chenango County

Sannick Family Farm, 129 Jordan Ln., South Oxford, 07000335

Columbia County

Copake Iron Works Historic District, Taconic State Park, Copake Falls, 07000334

Dutchess County

Campbell, Dr. Cornelius Nase, House, 6031 NY 82, Stanfordville, 07000333

Westchester County

Bar Building, 199 Main St., White Plains, 07000331

Public School No. 13, 160 McLean Ave., Yonkers, 07000332

Wilson, Albert E. and Emily, House, 617 Brook St., Mamaroneck, 07000330

Yates County

Dundee Village Historic District, Main, Water, and Seneca Sts., Dundee, 07000329

SOUTH CAROLINA

Cherokee County

Nuckolls—Jefferies House, 571 Asbury Rd., Pacolet, 07000336

TEXAS

Hidalgo County

McAllen Ranch, FM 1017, 13 mi. W of TX 281, Linn, 07000337

VIRGINIA

Henry County

Fairy Stone State Park Historic District, 967 Fairystone Lake Dr., Stuart, 07000338

WISCONSIN

Columbia County

Arnold, E. Clarke and Julia, House, 954 Dix St., Columbus, 07000339

[FR Doc. E7-5410 Filed 3-23-07; 8:45 am]

BILLING CODE 4312-51-P